ENVIRONMENTAL PROTECTION AGENCY

[FRL-7901-3]

Notice of Request for Proposals for Projects To Be Funded from the Water Quality Cooperative Agreement Allocation (CFDA 66.463—Water Quality Cooperative Agreements); Correction

AGENCY: Environmental Protection Agency (EPA).

ACTION: Notice; correction.

SUMMARY: EPA Region 6 published in the Federal Register of March 30, 2005, a notice soliciting proposals funded from the Regional Water Quality Cooperative Agreement allocation. This document is being issued to add and clarify several requirements that must be included in competitive funding announcements according to EPA Order 5700.7, Environmental Results under EPA Assistance Agreements. Additionally, a clarification on how past performance will be evaluated is included. Due to this correction notice, the deadline for submittal of all proposals is May 31, 2005.

FOR FURTHER INFORMATION CONTACT: Terry Mendiola by telephone at 214-665-7144 or by e-mail at mendiola.teresita@epa.gov.

SUPPLEMENTARY INFORMATION: EPA Region 6 published a notice in the Federal Register of March 30, 2005, (FR 05-6300) soliciting proposals for projects to be funded from the Regional Water Quality Cooperative Agreement Allocation. According to EPA Order 5700.7, all competitive funding announcements must include (1) a concise discussion of any expected outputs and outcomes in Section I and (2) ranking criteria for evaluating the applicant's plan for tracking and measuring its progress toward achieving the expected outputs and outcomes.

This correction adds a discussion of the difference between an output and outcome which will be added to Section I and reference to the outputs/outcomes for each priority area is added.

The language in the fourth ranking criteria of Section V regarding the quality of the evaluation component to assess or measure the environmental outcome(s) is corrected to reflect Order 5700.7 more accurately. A discussion for inclusion of this plan will be added in the Environmental Results and Outcomes Section of the proposal format.

This correction also clarifies the criteria for applicant's past performance. Applicant's past performance will be evaluated. Therefore, the words “if applicable” in the Past Performance criteria in Section V.1. will be deleted. Applicants will have to include any information on performance of past EPA projects similar in scope and relevance to the proposed project under the Describe Applicant's Capability to Perform Work: section of the proposal format. Applicants that do not have any relevant past performance will receive a neutral score for this factor. That means applicants will receive a possible 2.5 points out of 5. EPA Region 6 will also evaluate this criteria based on any existing information that is available based on past experience with the applicant.

Due to this correction notice, the date that the proposals must be submitted to EPA Region 6 has been extended. This extension also extends the date that EPA will identify initial selections.

Corrections

In notice FR 03-6300 published on March 30, 2005, (FR 05-6300) make the following corrections.

On page 16267, third column, under DATES caption, first sentence, correct the May 16, 2005 date with May 31, 2005.

On page 16267, third column, under SUPPLEMENTARY INFORMATION, under “Dates” caption, first sentence, correct the May 16, 2005 date with May 31, 2005.

On page 16267, third column, under SUPPLEMENTARY INFORMATION, under “Dates” caption, second sentence, correct the June 28, 2005 date with July 14, 2005.

On page 16268, in the first column, under High Priority Areas for Funding Consideration, second paragraph, add at the end of the second sentence the following:

The expected outputs/outcomes are included in the threshold eligibility criteria in Section III.3. for each priority area topic.

EPA defines “outputs” as an environmental activity, effort, and/or associated work products related to an environmental goal or objective, that will be produced or provided over a period of time or by a specified date. Outputs may be quantitative or qualitative but must be measurable during an assistance agreement funding period.

Outcomes are defined as the result, effect, or consequence that will occur from carrying out an environmental program or activity that is related to an environmental or programmatic goal or objective. Outcomes may be environmental, behavioral, health-related or programmatic in nature, must be quantitative, and may not necessarily be achievable with an assistance agreement funding period.”

On page 16269, second column, after the fourth bullet of the “Watershed—Based Permitting” caption, add the following:

• Successful completion of the project should result in the development of a new NPDES permitting issuance strategy that maximizes the use of resources to achieve environmental results and better protect entire watersheds.

On page 16269, second column, after the eighth bullet of the “Water Quality Trading” caption, add the following:

• Successful completion of the project should result in the development of a water quality trading process which will aid in complying with discharge limitations while improving and preserving water quality.

On page 16269, third column, after the first bullet of the “Cross-Program Training on Water Quality Modeling” caption, add the following:

• Successful completion of this training program should result in new avenues for Region 6 States to better coordinate resources and investigate innovative resolutions to water quality issues and development of TMDLs, especially at the watershed level, in support of State and National goals to reduce impaired waters in those States.

On page 16270, in the second column, under the proposal format, add at the end of Environmental Results and Outcomes: the following:

“This section should also include a plan to track and measure progress toward achieving the expected outputs and outcomes.”

On page 16270, in the second column, under the proposal format, add at the end of Describe Applicant's Capability To Perform Work: the following:

“This section should also include information on performance of past EPA Region 6 projects similar in scope and relevance to the proposed project.”

On page 16270, second column, under “3. Submission Dates and Times” caption, first sentence correct the May 16, 2005 date with May 31, 2005.

On page 16270, in the third column, under Section V. Application Review Information, 1. Criteria, fourth bullet, delete “and the quality of the evaluation component to assess or measure the environmental outcome(s)” and replace with “including the adequacy of the applicant's plan to track and measure progress toward achieving the expected outputs and outcomes.”

On page 16271, first column, second bullet, delete “if applicable.” under past performance criteria. Therefore, this criteria should read “Applicant's past performance. (5)''.

Dated: April 11, 2005.
Miguel I. Flores,
Director, Water Quality Protection Division, Region 6.

[FR Doc. 05-7802 Filed 4-19-05; 8:45 am]

BILLING CODE 6560-50-P